DEPARTMENT OF HEALTH AND HUMAN SERVICES

Health Resources and Services Administration

Solicitation of Nominations for Membership To Serve on the National Advisory Council on Migrant Health

AGENCY: Health Resources and Services Administration (HRSA), Department of Health and Human Services (HHS).

ACTION: Request for nominations.

SUMMARY: HRSA is seeking nominations of qualified candidates to be considered for appointment as members of the National Advisory Council on Migrant Health (NACMH/Council). The NACMH consults with and makes recommendations to the HHS Secretary concerning the organization, operation, selection, and funding of migrant health centers (MHC) and other entities, under grants and contracts under the Public Health Service (PHS) Act. HRSA is seeking nominations to fill up to five positions on the NACMH with individuals served by nominating health centers.

DATES: HRSA will receive written nominations for NACMH membership on a continuous basis.

ADDRESSES: Nomination packages must be submitted in hardcopy to the Designated Federal Official (DFO), NACMH, Strategic Initiatives and Planning Division, Office of Policy and Program Development, Bureau of Primary Health Care, HRSA, 16N38B, 5600 Fishers Lane, Rockville, Maryland 20857.

FOR FURTHER INFORMATION CONTACT: All requests for information regarding NACMH nominations should be sent to Esther Paul, DFO, NACMH, HRSA, in one of three ways: (1) Send a request to the following address: Esther Paul, Strategic Initiatives and Planning Division, Office of Policy and Program Development, Bureau of Primary Health Care, HRSA, 16N38B, 5600 Fishers Lane, Rockville, Maryland 20857; (2) call 301-594-4300; or (3) send an email to epaul@hrsa.gov. A copy of the NACMH charter and list of the current membership are available on the NACMH website at https://bphc.hrsa.gov/qualityimprovement/strategicpartnerships/nacmh/index.html.

SUPPLEMENTARY INFORMATION: NACMH was established and authorized under section 217 of the PHS Act, as amended (42 U.S.C. 218), to consult with and make recommendations to the HHS Secretary concerning the organization, operation, selection, and funding of MHCs, and other entities under grants and contracts under section 330 of the PHS Act (42 U.S.C. 254b). The NACMH meets twice each calendar year, or at the discretion of the DFO in consultation with the NACMH Chair.

Authority: NACMH is authorized under section 217 of the PHS Act, as amended (42 U.S.C. 218), and established by the Secretary. The NACMH is governed by the Federal Advisory Committee Act (5 U.S.C. Appendix 2) (FACA), which sets forth standards for the formation and use of advisory committees.

Nominations: HRSA requests nominations for voting members to serve as Special Government Employees (SGEs) on the NACMH. The nominations are to fill five open positions with MHC governing board members who are served by the nominating MHC and who are familiar with the delivery of health care to migratory and seasonal agricultural workers. The Secretary appoints NACMH members with the expertise needed to fulfill the duties of the Advisory Committee. The membership requirements set forth in section 217 of the PHS Act, as amended (42 U.S.C. 218), require that the Council consist of 15 members, at least 12 of whom shall be members of the governing boards of MHCs or other entities assisted under section 330 of the PHS Act (42 U.S.C. 254b). Of such 12 members, at least 9 shall be chosen from among those members served by such health centers and familiar with the delivery of health care to migratory and seasonal agricultural workers. The remaining three Council members shall be individuals qualified by training and experience in the medical sciences or in the administration of health programs. New members filling a vacancy that occurred prior to the expiration of a term may serve only for the remainder of such term. Members may serve after the expiration of their terms until their successors have taken office, but no longer than 120 days. Nominees must reside in the United States, and international travel cannot be funded.

Individuals selected for appointment to NACMH will be invited to serve for up to 4 years as SGEs. Members appointed as SGEs receive a stipend and reimbursement for per diem and travel expenses incurred for attending NACMH meetings, as authorized by 5 U.S.C. 5703 of the FACA for persons employed intermittently in government service.

A complete nomination package should include the following information for each nominee: (1) A NACMH nomination form; (2) three letters of reference; (3) a statement of prior service on the NACMH; and (4) a biographical sketch of the nominee or a copy of his/her curriculum vitae. Nomination packages may be submitted directly by the nominated individual or by the person/organization recommending the candidate.

HHS will endeavor to ensure NACMH membership is fairly balanced, representing points of view and individuals of diverse geographic areas, gender, and ethnic and minority groups, as well as individuals with disabilities. Appointments shall be made without discrimination based on age, ethnicity, gender, sexual orientation, or cultural, religious, or socioeconomic status.

Individuals selected to be considered for appointment will be required to provide detailed information regarding their financial holdings, consultancies, and research grants or contracts. Disclosure of this information is required in order for HRSA ethics officials to determine whether there are conflicts between the SGE's public duties as a member of the NACMH and their private interests, including an appearance of a loss of impartiality as defined by federal laws and regulations, and to identify any required remedial action needed to address the potential conflict(s).

Maria G. Button,
Director, Division of the Executive Secretariat.

[FR Doc. 2019-12592 Filed 6-13-19; 8:45 am]

BILLING CODE 4165-15-P